DEPARTMENT OF TRANSPORTATION

Federal Aviation Administration

14 CFR Part 25

[Docket No. FAA-2019-0329, Special Conditions No. 25-760-SC]

Special Conditions: The Boeing Company Model 777-9 Series Airplane; Interior Design To Facilitate Searches Above Passenger Cabin High Wall Suites

AGENCY: Federal Aviation Administration (FAA), DOT.

ACTION: Final special conditions; correction.

SUMMARY: The FAA is correcting an error that appeared in the Federal Register on March 5, 2020, for Special Conditions No. 25-760-SC, Docket No. FAA-2019-0329. In that document, the final special conditions text is incorrect and this document now posts the correct text.

DATES: This correction is effective on October 23, 2020.

FOR FURTHER INFORMATION CONTACT: Shannon Lennon, Airframe and Cabin Safety Section, AIR-675, Transport Standards Branch, Policy and Innovation Division, Aircraft Certification Service, Federal Aviation Administration, 2200 South 216th Street, Des Moines, Washington 98198; telephone and fax 206-231-3209; email shannon.lennon@faa.gov.

SUPPLEMENTARY INFORMATION:

Background

On February 14, 2020, the FAA issued Special Conditions No. 25-760-SC, under Docket No. FAA-2019-0329. Those special conditions were published in the Federal Register on March 5, 2020, (85 FR 12864). Those special conditions pertain to passenger cabins with high wall suites (HWS) for The Boeing Company Model 777-9 series airplane, which is a derivative of the Model 777-300ER airplane currently approved under Type Certificate No. T00001SE.

A special condition paragraph to that document published with incorrect text in condition No. 1. As published, the first special conditions paragraph stated that there should be no hazards to a person performing a physical search above the high wall suites (e.g., no hot surfaces, no sharp edges, and no corners). There are no substantive changes to the document as it is apparent that a corner is inherently not a hazard in and of itself. However, a sharp corner could be. It is evident that the text should have included corner as modified by sharp not just corner itself; otherwise all corners would be considered hazardous. Therefore, the text should have read: “The area above each HWS must be designed such that there should be no hazards to a person performing a physical search above the HWS (e.g., no hot surfaces, no sharp edges or corners)” from the beginning.

Correction

In Special Conditions No. 25-760-SC, published in the Federal Register on March 5, 2020, (85 FR 12864), FR Doc. 2020-03474, on page 12865, in the second column, correct the first special conditions paragraph to read as follows:

1. The area above each HWS must be designed such that there should be no hazards to a person performing a physical search above the HWS (e.g., no hot surfaces, no sharp edges or corners).

Issued in Des Moines, Washington, on October 7, 2020.
James E. Wilborn,
Acting Manager, Transport Standards Branch, Policy and Innovation Division, Aircraft Certification Service.

[FR Doc. 2020-22567 Filed 10-22-20; 8:45 am]

BILLING CODE 4910-13-P